DEPARTMENT OF HOUSING AND URBAN DEVELOPMENT

[Docket No. FR-5130-N-30]

Privacy Act; Notification of New Privacy Act System of Records, Housing Counseling Research Data Files

AGENCY: Office of the Chief Information Officer, HUD.

ACTION: Establishment of a new Privacy Act system of records.

SUMMARY: The Department of Housing and Urban Development HUD proposes to establish a new record system to add to its inventory of systems of records subject to the Privacy Act of 1974 (5 U.S.C. 552a), as amended. The proposed new system of record is the Housing Counseling Research Data Files. The records system will be used by HUD's Office of Policy Development and Research (PD&R) to conduct research and evaluation study of certain participants of HUD-funded Housing Counseling Agencies. Refer to the “Objective” caption to obtain detailed information about the purpose of this study.

DATES: Effective Date: This action shall be effective without further notice on October 23, 2008 unless comments are received that would result in a contrary determination.

Comments Due Date: October 23, 2008.

ADDRESSES: Interested persons are invited to submit comments regarding this notice to the Rules Docket Clerk, Office of General Counsel, Room 10276, Department of Housing and Urban Development, 451 Seventh Street, SW., Washington, DC 20410. Communications should refer to the above docket number and title. A copy of each communication submitted will be available for public inspection and copying between 8 a.m. and 5 p.m. weekdays at the above address.

FOR FURTHER INFORMATION CONTACT: Donna Robinson-Staton, Departmental Privacy Act Officer, Department of Housing and Urban Development, 451 Seventh Street, SW., Room 4178, Washington, DC 20410, telephone number (202) 402-8073. (This is not a toll-free number.) A telecommunication device for hearing- and speech-impaired individuals (TTY) is available at 1-800-877-8339 (Federal Information Relay Service).

SUPPLEMENTARY INFORMATION: Pursuant to the Privacy Act of 1974 (5 U.S.C. 552a), as amended notice is given that HUD proposes to establish a new system of records as identified as Housing Counseling Data Files.

Title 5 U.S.C. 552a(e)(4) and (11) provides that the public be afforded a 30-day period in which to comment on the new system of records, and requires published notice of the existence and character of the system of records.

The new system report was submitted to the Office of Management and Budget (OMB), the Senate Committee on Governmental Affairs, and the House Committee on Government Reform pursuant to paragraph 4c of Appendix 1 to OMB Circular No. A-130, “Federal Agency Responsibilities for Maintaining Records About Individuals,” July 25, 1994; 59 FR 37914.

System Security Measures: The availability and data in Housing Counseling Data Files are important. Much of the data needs to be protected from unanticipated or unintentional modification. HUD restricts the use of the information to HUD's Abt Associates Inc. contractors' oversight responsibility, vulnerabilities and corresponding security measures to ensure data protection as follows: Each employee at IMPAQ has a unique identifier. There is no general company ID that can be used by multiple employees to log in to the system. It is a violation of IMPAQ security policy to share usernames and logins with anyone else. When an employee leaves IMPAQ, part of the exit checklist is to disable the employee's account, so that the employees can no longer log in and remote access privileges are also disabled. Access rights will be selectively granted, depending on duties and need-to-know. Full access rights to all data in the system will be granted to fewer than 5 users, primarily project managers at IMPAQ and Abt Associates. Limited access rights will be granted to all counselors. Counselors will only have the ability to review records pertaining to clients of their agency. No disks or tapes are involved in the system. The consent forms validating the applicant's participation in the study will be scanned into electronic files that will be encrypted and then provided to Abt Associates via a secure, password protected HTTPS site. The baseline questionnaires will be entered into a secure electronic database that is encrypted at the database level. Both the consent forms and baseline questionnaires will then be stored at a secure off-site facility for the duration of the project. All other data will be entered into the database by counselors via a secure Web site so that all data transmitted over the Internet are encrypted. Counselors will only able to access data under their jurisdiction; downloading of data is not permitted from the actual system. Counselors would access the system through the Internet via Internet Explorer Web browser. The system requires a username and password to gain access, and only authorized counselors or staff at each agency would be provided with a username and password. Backup is performed through an online vendor who backs up data on a frequent, regular basis in a manner such that the data are encrypted while in transmission over the Internet. No hard-copy printouts containing personal information are anticipated to be generated on a regular basis. If any are generated as a result of ad hoc report requests, they will be carefully handled and shredded as soon as they are no longer needed. If these reports are needed for more than 1 day, they will be kept locked in a locked filing cabinet or in other storage rooms at IMPAQ or at off-site storage vendors which are heavily secured. Besides physical security of data, IMPAQ has in place procedures for handling datasets with personal identifiers that are similar to FedEx tracking system in that personal signatures by members of the IT department or the research team on the project are required at all stages of data handling until the personal identifiers are stripped and replaced with unique identifiers that are of no use to a potential identity thief. All IMPAQ staff are trained in security procedures and policies. Multiple layers of security are built into the IMPAQ computing infrastructure to maximize security.

Data Quality: Client participating in the study will be asked to complete a baseline questionnaire at the time they are enrolled in the study. Each counseling agency participating will be asked to complete service tracking surveys, for each client each time that client is assisted, and counseling information surveys. The baseline questionnaire and surveys include Name, address, household demographics (age, gender, race, ethnicity, income, assets, marital status, education, current work status, number of dependents, living situation and costs); financial information (gross monthly income, amount in savings, amount in retirement accounts, monthly rent paid, monthly utilities paid, mortgage payment status); Social Security Number (SSN), homeownership status, program status information, counseling agency ID, employment history of counselor, Born in U.S., English as primary language, homeownership status, foreclosure status; name, address, and telephone numbers of two relatives or friends for future follow-up. This data collection serves two goals (1) it will provide more detailed information on the characteristics of key groups of housing counseling clients, the specific services they receive from counseling agencies, and the short-term outcomes realized from their counseling (2) it will lay the groundwork for a follow-up survey of these same clients to look at longer-term outcomes (3) it will also help lay the groundwork for an impact evaluations or pre-purchase housing counseling by providing experience with enrolling counseling clients in a study, collecting information on the counseling assistance they receive, and tracking them over time.

Authority: 5 U.S.C. 552a 88 Stat. 1896; 342 U.S.C. 3535(d).

Lisa Schlosser,
Chief Information Officer.

HUD/PDR-10

SYSTEM NAME:

Housing Counseling Research Data Files.

SYSTEM LOCATION:

Housing Counseling Research Data Files servers are in Cambridge Massachusetts. System is maintained and operated by Abt Associates, IMPAQ International and software is loaded on their desktop computer at the Columbia Maryland location. The client system database software will be installed on secure servers at IMPAQ International in Columbia, MD. Project staff at IMPAQ will access the servers via the IMPAQ computer network infrastructure, again with authorization (username and password) required.

CATEGORIES OF INDIVIDUALS COVERED BY THE SYSTEM:

Individuals selected in a random sample of clients participating in housing counseling.

CATEGORIES OF RECORDS IN THE SYSTEM:

Name, address, household demographics (age, gender, race, ethnicity, income, assets, marital status, education, current work status, number of dependents, living situation and costs); financial information (gross monthly income, amount in savings, amount in retirement accounts, monthly rent paid, monthly utilities paid, mortgage payment status); Social Security Number, homeownership status, program status information, counseling agency ID, employment history of counselor, Born in U.S., English as primary language, homeownership status, foreclosure status; name, address, and telephone numbers of two relatives or friends for future follow-up.

AUTHORITY FOR MAINTENANCE OF THE SYSTEM:

Sec. 501, 502, Housing and Urban Development Act of 1970 (Pub. L. 91-609), 12 U.S.C. 1701z-1, 1701z-2.

PURPOSE:

To conduct an outcome evaluation study on the outcomes realized by clients of HUD-funded Housing Counseling Agencies seeking assistance to either purchase a home (pre-purchase clients) or to resolve or prevent a mortgage delinquency (foreclosure mitigation clients). The study is designed to gather statistically accurate information on outcomes realized by the clients of the participating housing counseling agencies. The study focuses on two groups of clients: (1) Clients seeking assistance to purchase a home (pre-purchase clients) and (2) clients seeking to resolve or prevent a mortgage delinquency (foreclosure mitigation clients). Up to Thirty housing counseling agencies at random will be recruited to participate in this study. The selected agencies will provide samples of data from each of the two groups, selected. The data collected through the study will support analysis of not just the frequency of different client outcomes, but also the association between these outcomes and client characteristics, client circumstances, and the extent of services received. Additionally, the proposed study will fulfill two important needs for HUD and the counseling field. First, it will provide systematic information on the outcomes realized by counseling clients and how these outcomes vary with the characteristics or clients and the services they receive. The study will also lay the groundwork for a subsequent pre-purchase impact evaluation by testing data collection procedures to be used to enroll clients, gather information on the characteristics of the services they receive, and track them over time.

ROUTINE USES OF RECORDS MAINTAINED IN THE SYSTEM, INCLUDING CATEGORIES OF USERS AND THE PURPOSES OF SUCH USES: In addition to those disclosures generally permitted under 5 U.S.C. A.

A. To individuals under contract to HUD or under contract to another agency with funds provided by HUD—for the preparation of studies and statistical reports directly related to the management of HUD's Housing Counseling Programs.

B. To future researchers selected by HUD to carry out the objectives of HUD's Housing Counseling Program in aggregate form without individual identifiers—name, address, social security number—for the performance of research and statistical activities of the Housing Counseling Programs.

C. To authorized social science researchers participating in HUD's Housing Counseling Program in aggregate form without individual identifiers—name, address, social security number—for the performance of research and statistical activities of the Housing Counseling Programs.

D. To participating counseling agencies for only part of the database to gather data identifying information that they gather from their own clients participating in the study and not the part of the database that contains social security numbers, birth dates, or data on the housing counseling clients of other agencies.

E. To credit bureaus to draw credit reports on the individuals selected to participate in the Housing Counseling Outcome Evaluation.

F. To HUD's Housing Counseling System, including the Client Activity Reporting System (CARS) to match sample clients' baseline, service tracking, and outcome data gathered during the course of this research to data reported on those clients in CARS.

POLICIES AND PRACTICES FOR STORING, RETRIEVING, ACCESSING, RETAINING, AND DISPOSING OF RECORDS IN THE SYSTEM:

STORAGE:

In file folders and electronic files stored on contractors' secured servers and computers.

RETRIEVABILITY:

Name, address.

SAFEGUARDS:

Manual files will be kept in sealed envelopes, in locked cabinets, in locked offices; computer records will be maintained in a separate secured area accessible only to authorized personnel with passwords. The consent forms will be scanned into electronic files that will be encrypted and then provided to Abt Associates via a secure, password protected HTTPS site. When the consent forms are used to obtain credit reports for the study, a copy of the consent form will be provided using the same secure HTTPS site and encrypted files to the agency that obtains the credit reports. The baseline questionnaires will be entered into an electronic database that will be encrypted at the database level and accessible only to authorized personnel with passwords. Both the consent forms and baseline questionnaires will then be stored at a secure off-site facility for the duration of the project.

RETENTION AND DISPOSAL:

All personal identifiers will be destroyed approximately six months after the research is completed.

SYSTEM MANAGER(S) AND ADDRESS:

Mark Shroder, Acting Director of the Program Evaluation Division, Office of Policy Development and Research, Department of Housing and Urban Development, 451 Seventh Street, SW., Washington, DC 20410, Telephone Number (202) 402-5922.

NOTIFICATION PROCEDURE:

For information, assistance, or inquiry about existence or records, contact Donna Robinson-Staton, Departmental Privacy Act Officer, Department of Housing and Urban Development, 451 Seventh Street, SW., Washington, DC, in accordance with the procedures in 24 CFR part 16.

CONTESTING RECORD PROCEDURES:

Procedures for the amendment or correction of records, and for applicants who want to appeal initial agency determination appear in 24 CFR part 16. If additional information is needed, contact:

(i) In relation to contesting contents of records, the Departmental Privacy Act Officer at HUD, 451 Seventh Street, SW., Room 2256, Washington, DC 20410; and

(ii) In relation to appeals of initial denials, HUD, Departmental Privacy Appeals Officer, Office of General Counsel, 451 Seventh Street, SW., Washington, DC 20410.

RECORD SOURCE CATEGORIES:

The original records are transferred from information obtained from baseline questionnaires for participating clients and service tracking surveys on counseling services received by those clients from the record subjects, participating counseling agencies, and credit bureaus.

EXEMPTIONS FROM CERTAIN PROVISIONS OF THE ACT:

None.

[FR Doc. E8-22144 Filed 9-22-08; 8:45 am]

BILLING CODE 4210-67-P